DEPARTMENT OF ENERGY

Federal Energy Regulatory Commission

Notice of Application Tendered for Filing With the Commission

March 11, 2004.

Take notice that the following hydroelectric application has been filed with the Commission and is available for public inspection.

a. Type of Application: New minor license application.

b. Project No.: 632-009.

c. Date Filed: February 13, 2004.

d. Applicant: Monroe City.

e. Name of Project: Lower Monroe Hydroelectric Project.

f. Location: On Monroe Creek, 2 miles east of Monroe City, Sevier County, Utah. The project affects about 1.36 acres of Federal lands within the Fishlake National Forest.

g. Filed Pursuant to: Federal Power Act 16 U.S.C. 791(a)-825(r).

h. Applicant Contact: R. Craig Mathie, Mayor, Monroe City, 10 North Main, Monroe, Utah 84754, (435) 527-4621; John Spendlove, Jones & DeMille Engineering, 1535 South 100 West, Richfield Utah 84701, (435) 896-8266.

i. FERC Contact: Gaylord W. Hoisington, (202) 502-6032, or e-mail at: gaylord.hoisington@ferc.gov.

j. Cooperating Agencies: We are asking Federal, State, local, and tribal agencies with jurisdiction and/or special expertise with respect to environmental issues to cooperate with the preparation of the environmental document. Agencies who would like to request cooperating status should follow the instructions for filing comments described in item k below.

k. Deadline for Filing Comments and Requests for Cooperating Agency Status: May 14, 2004.

All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Comments and requests for cooperating agency status may be filed electronically via the Internet in lieu of paper. The Commission strongly encourages electronic filings. See 18 CFR 385.2001(a)(1)(iii) and the instructions on the Commission's Web site (http://www.ferc.gov) under the “e-Filing” link.

l. The proposed run-of-river project consist of: (1) A 10-foot-high, 13-foot-long concrete overflow-type diversion structure with an adjustable slide gate; (2) a concrete intake structure with a trash rack and a 21-inch-diameter, 100-foot-long cast iron pipeline; (3) a 8,400-foot-long, 16-inch-diameter to 20-inch diameter welded steel and ductile iron pipe penstock; (4) a 15-foot-wide, 26-foot-long reinforced concrete and concrete block power house containing a Pelton Wheel turbine with a 250-kilwatt generator and controls; (5) a 250-foot-long transmission line; and (6) appurtenant facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. With this notice, we are initiating consultation with the Idaho State Historic Preservation Officer (SHPO), as required by section 106, National Historic Preservation Act, and the regulations of the Advisory Council on Historic Preservation, 36 CFR 800.4.

o. Procedural Schedule: The application will be processed according to the following Hydro Licensing Schedule. Revisions to the schedule will be made as appropriate.

Issue Deficiency Letter—April 2004

Issue Acceptance Letter—April 2004

Request Additional Information—June 2004

Notice of the availability of the EA—August 2004

Ready for Commission's decision on the application—December 2004

Magalie R. Salas,
Secretary.

[FR Doc. E4-626 Filed 3-18-04; 8:45 am]

BILLING CODE 6717-01-P